DEPARTMENT OF TRANSPORTATION

Pipeline and Hazardous Materials Safety Administration

[Docket No. PHMSA-2018-0021]

Pipeline Safety: Information Collection Activities

AGENCY: Pipeline and Hazardous Materials Safety Administration (PHMSA), DOT.

ACTION: Notice and request for comments.

SUMMARY: On March 26, 2018, in accordance with the Paperwork Reduction Act of 1995, the Pipeline and Hazardous Materials Safety Administration (PHMSA) published a notice in the Federal Register (83 FR 13004) inviting comments on three information collections identified by Office of Management and Budget (OMB) control numbers 2137-0048, 2137-0600, and 2137-0618 that expire this Summer. PHMSA is requesting an extension with no change for these information collections.

During the public comment period, PHMSA received no comments in response to the information collections. PHMSA received 10 comments that did not pertain to the information collection requests. PHMSA is publishing this notice to provide the public with an additional 30 days to comment on the renewal of the information collections referenced above and to announce that the information collection requests will be submitted to OMB for approval.

DATES: Interested persons are invited to submit comments on or before July 9, 2018 to be assured of consideration.

FOR FURTHER INFORMATION CONTACT: Angela Dow by telephone at 202-366-1246, by email at angela.dow@dot.gov, by fax at 202-366-4566, or by mail at U.S. Department of Transportation, PHMSA, 1200 New Jersey Avenue SE, PHP-30, Washington, DC 20590-0001.

ADDRESSES: You may submit comments identified by the docket number PHMSA-2018-0021 by any of the following methods:

• Fax: 1-202-395-5806.

• Mail: Office of Information and Regulatory Affairs, Records Management Center, Room 10102 NEOB, 725 17th Street NW, Washington, DC 20503, ATTN: Desk Officer for the U.S. Department of Transportation\PHMSA.

• Email: Office of Information and Regulatory Affairs, OMB, at the following email address: OIRA_Submission@omb.eop.gov.

Requests for a copy of the information collections should be directed to Angela Dow by telephone at 202-366-1246, by fax at 202-366-4566, by email at angela.dow@dot.gov, or by mail at U.S. Department of Transportation, PHMSA, 1200 New Jersey Avenue SE, PHP-30, Washington, DC 20590-0001.

Summary of Comments Received

During the 60-day comment period, PHMSA received 10 comments from anonymous submitters that emphasized the general importance of environmental safety in the oil and gas industry.

SUPPLEMENTARY INFORMATION: Section 1320.8(d), Title 5, Code of Federal Regulations, requires PHMSA to provide interested members of the public and affected agencies an opportunity to comment on information collection and recordkeeping requests. This notice identifies three information collection requests that PHMSA will submit to OMB for renewal. The following information is provided for each information collection: (1) Title of the information collection; (2) OMB control number; (3) Current expiration date; (4) Type of request; (5) Abstract of the information collection activity; (6) Description of affected public; (7) Estimate of total annual reporting and recordkeeping burden; and (8) Frequency of collection. PHMSA will request a three-year term of approval for each information collection activity. PHMSA requests comments on the following information collections:

1. Title: Recordkeeping Requirements for Liquefied Natural Gas (LNG) Facilities.

OMB Control Number: 2137-0048.

Current Expiration Date: 06/30/2018.

Type of Request: Renewal with no change of a currently approved information collection.

Abstract: LNG facility owners and operators are required to maintain records, make reports, and provide information to the Secretary of Transportation at the Secretary's request.

Affected Public: Owners and operators of liquefied natural gas facilities.

Annual Reporting and Recordkeeping Burden:

Estimated number of responses: 101.

Estimated annual burden hours: 12,120.

Frequency of Collection: On Occasion.

2. Title: Qualification of Pipeline Safety Training.

OMB Control Number: 2137-0600.

Current Expiration Date: 07/31/2018.

Type of Request: Renewal with no change of a currently approved information collection.

Abstract: All individuals responsible for the operation and maintenance of pipeline facilities are required to be properly qualified to safely perform their tasks. Section 192.807 of Title 49, Code of Federal Regulations, requires each operator to maintain records that demonstrate compliance with the mandated qualification criteria. Records must be kept to be provided upon request.

Affected Public: Operators of pipeline facilities.

Annual Reporting and Recordkeeping Burden:

Estimated number of responses: 29,167.

Estimated annual burden hours: 7,292.

Frequency of collection: On occasion.

3. Title: Pipeline Safety: Periodic Underwater Inspection and Notification of Abandoned Underwater Pipelines.

OMB Control Number: 2137-0618.

Current Expiration Date: 8/31/2018.

Type of Request: Renewal with no change of a currently approved information collection.

Abstract: The Federal pipeline safety regulations at 49 CFR 192.612 and 195.413 require operators to conduct appropriate periodic underwater inspections in the Gulf of Mexico and its inlets. If an operator discovers that its underwater pipeline is exposed or poses a hazard to navigation, among other remedial actions such as marking and reburial in some cases, the operator must contact the National Response Center by telephone within 24 hours of discovery and report the location of the exposed pipeline. PHMSA's regulations for reporting the abandonment of underwater pipelines can be found at 49 CFR 192.727 and 195.59. These provisions contain certain requirements for disconnecting and purging abandoned pipelines and require operators to notify PHMSA of each abandoned offshore pipeline facility or each abandoned onshore pipeline facility that crosses over, under or through a commercially navigable waterway.

Affected Public: Operators of pipeline facilities (except master meter operators).

Annual Reporting and Recordkeeping Burden:

Estimated number of responses: 92.

Estimated annual burden hours: 1,372.

Frequency of collection: On occasion.

Comments are invited on:

(a) The need for the renewal of these collections of information for the proper performance of the functions of the agency, including whether the information will have practical utility;

(b) The accuracy of the agency's estimate of the burden of the proposed collection of information, including the validity of the methodology and assumptions used;

(c) Ways to enhance the quality, utility, and clarity of the information to be collected, and

(d) Ways to minimize the burden of the collection of information on those who are to respond, including the use of appropriate automated, electronic, mechanical, or other technological collection techniques.

Authority: The Paperwork Reduction Act of 1995; 44 U.S.C. Chapter 35, as amended; and 49 CFR 1.48.

Issued in Washington, DC on June 04, 2018, under authority delegated in 49 CFR 1.97.
John A. Gale,
Director, Standards and Rulemaking Division.

[FR Doc. 2018-12239 Filed 6-6-18; 8:45 am]

BILLING CODE 4910-60-P